DEPARTMENT OF LABOR

Employment and Training Administration

[SGA/DFA-PY-08-03]

Solicitation for Grant Applications (SGA); Prisoner Re-entry Initiative Grants

AGENCY: Employment and Training Administration (ETA), Labor.

ACTION: Notice: Amendment to SGA/DFA-PY-08-03.

SUMMARY: The Employment and Training Administration published a document in the Federal Register on September 5, 2008, announcing the availability of funds and solicitation for grant applications (SGA) under the Prisoner Re-entry Initiative to be awarded through a competitive process. This notice is the first amendment to the SGA and it amends the Key Dates and Part VII—Agency Contacts.

FOR FURTHER INFORMATION CONTACT: James Stockton, Grant Officer, Division of Federal Assistance, at (202) 693-3335.

Supplementary Information Correction: In the Federal Register of September 5, 2008, in FR Doc. EB-20570, the closing date for receipt of applications under this announcement is November 4, 2008. Part VII—Agency Contacts, is amended to provide the correct telephone number for the Grants Management Specialist as follows: For further information regarding this SGA, please contact Jeannette Flowers, Grants Management Specialist, Division of Federal Assistance, at (202) 693-3322.

DATES: Effective Date: This notice is effective September 12, 2008.

Signed at Washington, DC, this 8th day of September 2008.
James W. Stockton,
Grant Officer.

[FR Doc. E8-21316 Filed 9-11-08; 8:45 am]

BILLING CODE 4510-30-P